DEPARTMENT OF ENERGY

Federal Energy Regulatory Commission

Combined Notice of Filings #1

July 28, 2006

Take notice that the Commission received the following electric corporate filings:

Docket Numbers: EC06-143-000.

Applicants: Mesquite Investors, L.L.C.; Chaparral Investors, L.L.C.; Capital District Energy Center Cogeneration Associates; Hartford Power Company I LLC; Hartford Power Company II LLC.

Description: Chaparral Investors, LLC, et al. submit an application for order authorizing transfer of control of jurisdictional facilities under Section 203 of the Federal Power Act.

Filed Date: 07/25/2006.

Accession Number: 20060727-0090.

Comment Date: 5 p.m. Eastern Time on Tuesday, August 15, 2006.

Take notice that the Commission received the following exempt wholesale generator filings:

Docket Numbers: EG06-51-000.

Applicants: SAF Hydroelectric LLC.

Description: SAF Hydroelectric LLC submits an amended Notice of Self Certification demonstrating that it is an Exempt Wholesale Generator as defined in Section 366.1 of FERC's Regulations.

Filed Date: 07/26/2006.

Accession Number: 20060727-0037.

Comment Date: 5 p.m. Eastern Time on Wednesday, August 16, 2006.

Take notice that the Commission received the following electric rate filings:

Docket Numbers: ER03-879-004; ER03-880-004; ER03-882-004.

Applicants: D.E. Shaw Plasma Trading, L.L.C.; D.E. Shaw & Co. Energy, L.L.C.; D.E. Shaw Plasma Power, L.L.C.

Description: D.E. Shaw Plasma Trading L.L.C., et al. jointly submit an updated triennial market power analysis pursuant to Commission's 4/14/04; 7/8/04; & 7/23/03 Orders.

Filed Date: 07/24/2006.

Accession Number: 20060727-0092.

Comment Date: 5 p.m. Eastern Time on Monday, August 14, 2006.

Docket Numbers: ER04-954-002.

Applicants: Ritchie Energy Products, L.L.C.

Description: Ritchie Energy Products, LLC submits its triennial market power update pursuant to FERC's order issued 7/25/03.

Filed Date: 07/25/2006.

Accession Number: 20060727-0035.

Comment Date: 5 p.m. Eastern Time on Tuesday, August 15, 2006.

Docket Numbers: ER06-368-000; ER06-368-001; ER06-368-002.

Applicants: MidAmerican Energy Company.

Description: MidAmerican Energy submits its compliance filing pursuant to FERC's 5/26/06 Order.

Filed Date: 07/25/2006.

Accession Number: 20060727-0088.

Comment Date: 5 p.m. Eastern Time on Tuesday, August 15, 2006.

Docket Numbers: ER06-1162-001.

Applicants: Select Energy New York, Inc.

Description: Select Energy New York, Inc submits a Substitute Second Revised Sheet No. 2 to First Revised FERC Electric Rate Schedule 1.

Filed Date: 07/26/2006.

Accession Number: 20060727-0275.

Comment Date: 5 p.m. Eastern Time on Wednesday, August 16, 2006.

Docket Numbers: ER06-1276-000.

Applicants: Public Service Company of New Mexico.

Description: Public Service Company of New Mexico submits an executed Network Integration Transmission Service Agreement and an associated executed Network Operating Agreement.

Filed Date: 07/25/2006.

Accession Number: 20060726-0085.

Comment Date: 5 p.m. Eastern Time on Tuesday, August 15, 2006.

Docket Numbers: ER06-1278-000.

Applicants: Southwestern Electric Power Company.

Description: Southwestern Electric Power Co submits actuarial reports with respect to post-employment benefits other than pensions and post-employment benefits for calendar year 2005.

Filed Date: 07/26/2006.

Accession Number: 20060727-0276.

Comment Date: 5 p.m. Eastern Time on Wednesday, August 16, 2006.

Docket Numbers: ER06-1279-000.

Applicants: E.ON U.S.., LLC; Louisville Gas & Electric Company; Kentucky Utilities.

Description: E.ON U.S. LLC et al. submit their Amended Agreement with the Kentucky Municipals and the TVA Distributor Group.

Filed Date: 07/26/2006.

Accession Number: 20060727-0270.

Comment Date: 5 p.m. Eastern Time on Wednesday, August 16, 2006.

Docket Numbers: ER06-1280-000.

Applicants: Hess Corporation.

Description: Hess Corporation submits a notice of succession to notify the Commission that as a result of a corporate name change it has succeeded to the market-based rate schedule of Amerada Hess Corp.

Filed Date: 07/26/2006.

Accession Number: 20060727-0277.

Comment Date: 5 p.m. Eastern Time on Wednesday, August 16, 2006.

Docket Numbers: ER06-1281-000; ER06-1282-000.

Applicants: California Independent System Operator Corporation; Pacific Gas and Electric Company.

Description: California Independent System Operator Corp et al. submit their revised tariff sheets to the ISO Tariff & PG&E's Pass-Through Tariff, effect 1/1/07.

Filed Date: 07/26/2006.

Accession Number: 20060727-0278.

Comment Date: 5 p.m. Eastern Time on Wednesday, August 16, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-12512 Filed 8-2-06; 8:45 am]

BILLING CODE 6717-01-P